FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Adrian's Export Services Corp. (OFF), 15294 SW 21st Street, Miramar, FL 33027, Officers: Elsie Delossantos, Secretary (QI), Adriano Acevedo, President, Application Type: New OFF License

AZ Freight International Inc. (NVO & OFF), 18311 Railroad Street, City of Industry, CA 91748, Officer:, Lang Zhang, President (QI), Application Type: Add Trade Name RDD Freight Int'l (LAX) Inc.

CAP Worldwide, Inc. (NVO & OFF), 3226 Lodestar Road, Building 7, Suite 200, Houston, TX 77032, Officers: Brian Tibbetts, Treasurer (QI), Rebecca Kersting, President, Application Type: QI Change

Contract Logistics, LLC (NVO), 4911 North Portland Avenue, Suite 200, Oklahoma City, OK 73112, Officers: Thomas W. Young, Vice President (QI), Gregory P. Roush, Manager/Member, Application Type: Add Trade Name Smart Lines Worldwide

Feiliks Global Logistics Corporation (NVO), 176-20 S. Conduit Avenue, Suite 103, Jamaica, NY 11434, Officers: Ami K. Wey, President (QI), Regina Tay, Vice President, Application Type: New NVO License

G Max Distributors Inc. (NVO & OFF), 6979 NW 84th Avenue, Miami, FL 33166, Officers: Hugo D. Carmona, Secretary (QI), Victor Lopez, President, Application Type: Add OFF Service

Hye Mi Express U.S.A., Inc. (NVO), 22926 Pennsylvania Avenue, Torrance, CA 90501, Officer:, Kil Soo (AKA Ben) Hur, President (QI), Application Type: New NVO License

Innerpoint, Corp. (NVO), 19401 S. Vermont Avenue, D-200B, Torrance, CA 90502, Officers: Keun Bae Ko, President (QI), Sung Ho Lee, Director, Application Type: QI Change

Intermodal Tank Transport (USA), Inc. (NVO), 2537 S. Gessner, Suite 108, Houston, TX 77063, Officers: William M. Caldwell, Vice President (QI), Jon E. Hulsey, Director/CEO, Application Type: QI Change

Right Link Freight Forwarding Corp. (NVO & OFF), 717 Ponce de Leon Blvd., Suite 316, Coral Gables, FL 33134, Officers: Jesus Chinea, Vice President (QI), Hilario M. Prieto Herrera, Director, Application Type: New NVO & OFF License

Sea Marine Transport S.A. DE C.V. (NVO), Parque de Granada No. 71, P.H. 504, Huixquilucan, Estado de Mexico 52785 Mexico, Officers: Moises L. Sarabia, President (QI), Moises A. Sarabia, Secretary, Application Type: New NVO License

Sumikin International Transport (U.S.A.), Inc. dba Sitra (NVO & OFF), 1822 Brummel Avenue, Elk Grove Village, IL 60007, Officers: Masatomo Morita, Assistant Vice President (QI), Kenji Takayanagi, President, Application Type: Name Change to Nippon Steel & Sumikin Logistics (U.S.A.), Inc.

T.V.L. Global Logistics (N.Y.) Corp. (NVO), 39-15 Main Street, Suite 406, Flushing, NY 11354, Officers: Chun Yat Chang, Vice President (QI), Chuang-Hsing Chueh, President, Application Type: QI Change

By the Commission.
Dated: May 10, 2013.
Karen V. Gregory,
Secretary.

[FR Doc. 2013-11608 Filed 5-15-13; 8:45 am]

BILLING CODE 6730-01-P